DEPARTMENT OF TRANSPORTATION

Surface Transportation Board

[Docket No. FD 35640]

Wyoming Connect Railroad LLC—Acquisition and Operation Exemption—Union Pacific Railroad Company

Wyoming Connect Railroad LLC (WCR), a noncarrier, has filed a verified notice of exemption under 49 CFR 1150.31 to acquire by lease from Union Pacific Railroad Company and to operate approximately 18.5 miles of rail line between milepost 0.0 at or near Yoder and milepost 18.5 at or near South Torrington, in Goshen County, Wyo.

The transaction is scheduled to be consummated on or after July 15, 2012 (30 days after the notice of exemption was filed).

WCR certifies that its projected annual revenues as a result of this transaction will not exceed those that would qualify it as a Class III rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed no later than July 6, 2012 (at least 7 days before the exemption becomes effective).

An original and 10 copies of all pleadings, referring to Docket No. FD 35640, must be filed with the Surface Transportation Board, 395 E Street SW., Washington, DC 20423-0001. In addition, a copy of each pleading must be served on Thomas F. McFarland, 208 South LaSalle St., Suite 1890, Chicago, IL 60604.

Board decisions and notices are available on our Web site at www.stb.dot.gov.

Decided: June 21, 2012.
By the Board.
Richard Armstrong,
Acting Director, Office of Proceedings.
Jeffrey Herzig,
Clearance Unit.

[FR Doc. 2012-15798 Filed 6-28-12; 8:45 am]

BILLING CODE 4915-01-P